DEPARTMENT OF HOMELAND SECURITY

Transportation Security Administration

[Docket No. TSA-2014-0001]

TSA PreCheck® Application Program Fees

AGENCY: Transportation Security Administration, DHS.

ACTION: Notice.

SUMMARY: The Transportation Security Administration (TSA) administers the TSA PreCheck® Application Program (also known as the TSA Pre✓® Application Program), in which members of the public may apply to be eligible for expedited airport security screening. To apply for TSA PreCheck Application Program eligibility, individuals voluntarily provide biometric and biographic information that TSA uses to conduct a security threat assessment and those applicants pay a fee to cover the cost to operate the TSA PreCheck Application Program. In this Notice, TSA announces the anticipated launch of additional enrollment providers who will be able to establish additional price points for the TSA PreCheck Application Program. These enrollment providers are planned to become available in 2021 to increase opportunities to apply for membership in the program. TSA will announce the details and pricing for these new enrollment options, when available, via https://www.tsa.gov/precheck.

DATES: This notice is applicable July 9, 2021.

FOR FURTHER INFORMATION CONTACT: Anne Walbridge, Transportation Security Administration, 6595 Springfield Center Drive, Springfield, VA 20598-6047; 571-227-2329; or email at TSAPrecheckEnrollment@dhs.gov.

SUPPLEMENTARY INFORMATION:

Availability of Notice Document

You can get an electronic copy of published documents through the internet by—

(1) Searching the electronic Federal Docket Management System (FDMS) web page at http://www.regulations.gov; or

(2) Accessing the Government Publishing Office's web page at http://www.gpo.gov/fdsys/browse/collection.action?collectionCode=FR to view the daily published Federal Register edition; or accessing the “Search the Federal Register by Citation” in the “Related Resources” column on the left, if you need to do a Simple or Advanced search for information, such as a type of document that crosses multiple agencies or dates.

In addition, copies are available by writing or calling the individual in the FOR FURTHER INFORMATION CONTACT section.

I. Summary

The TSA PreCheck Application Program (TSA PreCheck) is a voluntary, expedited security screening program connecting low-risk travelers departing from the United States with smarter security and a better air travel experience.¹ There are approximately 10 million members in the TSA PreCheck Application Program. Individuals enrolled in the TSA PreCheck Application Program are eligible to receive expedited screening at U.S. airports. As explained in the December 4, 2013 Notice in the Federal Register,² membership in the TSA PreCheck Application Program is within the sole discretion of TSA. Individuals may also receive TSA PreCheck expedited screening via membership in other programs such as certain U.S. Customs and Border Protection (CBP) Trusted Traveler Programs. These individuals do not pay a fee to TSA for membership in such other programs.

¹ The TSA PreCheck Application Program refers to the DHS Trusted Traveler Program that TSA operates to determine if individuals are low-risk and may receive expedited screening. TSA PreCheck refers to expedited screening provided by TSA.

² See Notice, 78 FR 72922 (December 4, 2013).

TSA established the TSA PreCheck Application Program in December 2013 to expand access to expedited screening to individuals who voluntarily provide information that TSA uses to determine whether the traveler is low risk. TSA uses biographic and biometric information the applicant provides to conduct a security threat assessment (STA) that includes review of criminal history, immigration, intelligence, and regulatory violation records. As part of the enrollment process, TSA requires that applicants present government-issued identity documents with a photo to prove their identity. To prepare for REAL ID enforcement, in advance of the REAL ID card-based enforcement deadline, TSA will require new TSA PreCheck applicants as well as renewal applicants to provide a REAL ID-compliant document if enrolling with a state-issued identity document. Applicants must also prove they are a U.S. person as required by the program. Following enrollment, TSA evaluates the information generated by the vetting process to determine whether the individual poses a low risk to transportation and national security. Once completed, the STA remains valid for five years, provided the individual continues to meet the eligibility standards. At the end of the five-year term, individuals wishing to maintain their TSA PreCheck eligibility must renew their membership in the program which includes a new STA.

If TSA determines that the applicant is low risk, TSA issues a Known Traveler Number (KTN) ³ that the individual can use when making flight reservations. Enrollment in the TSA PreCheck Application Program and use of the associated KTN do not guarantee that an individual will receive expedited screening at airport security checkpoints. TSA retains an element of randomness to maintain unpredictability for security purposes, and travelers with valid KTNs may be selected for standard or enhanced physical screening on occasion.

³ The Known Traveler Number is a component of Secure Flight Passenger Data (SFPD), which is defined in TSA Secure Flight regulations at 49 CFR 1560.3. See also the Secure Flight regulations at 49 CFR part 1560.

An individual is ineligible for a KTN and thus access to TSA PreCheck expedited screening if TSA determines that the individual poses a risk to transportation or national security; has committed certain criminal acts; ⁴ does not meet the immigration status standards; ⁵ has committed regulatory violations; ⁶ or is otherwise not a low-risk traveler. TSA notifies individuals who it determines are ineligible for a KTN through the TSA PreCheck Application Program in writing, and they continue to undergo standard screening at airport security checkpoints.

⁴ See 49 CFR 1572.103 for the criminal standards that apply to TSA PreCheck applicants.

⁵ Individuals who apply for membership in the TSA PreCheck Application Program must be U.S. citizens, U.S. Nationals, or Lawful Permanent Residents.

⁶ For instance, an individual who interferes with security screening or brings a weapon to the security checkpoint would be deemed ineligible for TSA PreCheck expedited screening.

TSA is required by law to charge a non-refundable fee to cover the costs of operating the TSA PreCheck Application Program.⁷ Collecting biographic and biometric information from applicants, conducting the STA, adjudicating the results of the STA, and managing the program ⁸ generate costs for TSA, the enrollment provider, and the Federal Bureau of Investigation (FBI). The current initial application and renewal fee for the TSA PreCheck Application Program is $85.00. The fee will remain no more than $85 for individuals enrolling through the Universal Enrollment Services enrollment provider.

⁷ See 49 U.S.C. 114; § 540 of the DHS appropriations act of 2006, Public Law. 109-90 (119 Stat. 2064, 2088-89, Oct. 18, 2005).

⁸ See § 540, Id.

II. Discussion of Future Program Adjustments

The TSA PreCheck Application Program is a successful trusted traveler program that improves the travel experience for approximately 10 million travelers. Recent statutory changes aimed at increasing membership in the TSA PreCheck Application Program require TSA to expand the number of companies providing enrollment services. Specifically, section 1937 of the TSA Modernization Act requires TSA to add at least two enrollment vendors to the program.⁹ On January 9, 2020, TSA announced that it selected Alclear, LLC; IDEMIA, and; Telos Identity Management Solutions, LLC as enrollment providers as part of a full and open competition posted on FedBizOps. These vendors will be free to compete in the marketplace to offer creative enrollment products using new locations, procedures, systems, and fees to gain program applicants. TSA will review and approve vendor platforms to ensure they meet the latest cybersecurity requirements before a vendor can begin processing applications. Note that TSA, through the Universal Enrollment Services contract, will continue to offer the existing TSA PreCheck Application Program products and fees after the new providers begin to operate. The fee to apply for initial membership and to renew membership in the TSA PreCheck Application Program will not exceed $85 for individuals enrolling through the Universal Enrollment Services enrollment provider.

⁹ TSA Modernization Act, Division K—Title I of the FAA Reauthorization Act § 1937, Public Law 115-254, 132 Stat. 3186 (Oct. 5, 2018).

TSA anticipates that the new enrollment providers will begin enrolling applicants in 2021. Each new enrollment provider will be authorized to establish its own fees to cover the cost of services it provides to applicants. While vendor fees may vary to cover the costs of their enrollment products and services,¹⁰ TSA will continue to collect the TSA component of the fee for all individuals who apply for and renew memberships. Therefore, regardless of the fee each new enrollment provider establishes for its services, the three vendors must continue to remit TSA's component to cover the TSA costs to operate the program. The TSA component recovers the costs to analyze the immigration, terrorism, criminal, and regulatory violation information generated in the checks of the various databases; determine whether applicants have a disqualifying factor or are eligible for the TSA PreCheck Application Program; notify applicants of TSA's determination; issue KTNs to eligible individuals; conduct research and development for innovative enhancements to improve the TSA PreCheck Application Program enrollment and the TSA PreCheck expedited screening experience; and continue to monitor databases and information to confirm that the members remain low risk.

¹⁰ Enrollment providers will be responsible for fees imposed by the FBI.

The STA that TSA conducts will cover a term of five years and must be renewed with TSA at the end of that term if an individual wishes to maintain their TSA PreCheck eligibility. Vendors will be permitted to offer shorter duration memberships (e.g., one-year memberships) but must still remit the TSA component fee at initial enrollment to TSA to cover TSA's 5-year costs. If a member allows the membership to lapse for any period of time and subsequently applies for renewal, the vendor must remit the TSA component fee again.

To attract new applicants to the TSA PreCheck Application Program, an enrollment provider may choose to offer additional services or other incentives to TSA PreCheck applicants, beyond membership in the program, as part of its program fee. For instance, an enrollment provider may offer discounts for travel related products.

TSA will ensure all enrollment options and membership fees are publically available on the TSA website once multiple vendors are operational. Applicants can use this publically available information to choose the enrollment option that best meets their needs based on the enrollment service offerings, convenience of enrollment center locations, pricing, and incentives. TSA will announce the details of these new enrollment options, when available, via https://www.tsa.gov/precheck.

Dated: July 1, 2021.
Thomas L. Bush,
Acting Executive Assistant Administrator, Operations Support.

[FR Doc. 2021-14518 Filed 7-8-21; 8:45 am]

BILLING CODE 9110-05-P